DEPARTMENT OF LABOR

Office of Workers' Compensation Programs

Agency Information Collection Activities; Comment Request; Peace Corps Volunteer Authorization for Examination and/or Treatment (CA-15)

AGENCY: Office of Workers' Compensation Programs, Division of Federal Employees', Longshore and Harbor Workers' Compensation—DFELHWC-FECA

ACTION: Notice.

SUMMARY: The Department of Labor (DOL) is soliciting comments concerning a proposed extension for the authority to conduct the information collection request (ICR) titled, Peace Corps Volunteer Authorization for Examination and/or Treatment (CA-15). This comment request is part of continuing Departmental efforts to reduce paperwork and respondent burden in accordance with the Paperwork Reduction Act of 1995 (PRA).

DATES: Consideration will be given to all written comments received by January 3, 2023.

ADDRESSES: A copy of this ICR with applicable supporting documentation; including a description of the likely respondents, proposed frequency of response, and estimated total burden may be obtained free by contacting Anjanette Suggs by telephone at 202-354-9660 or by email at suggs.anjanette@dol.gov.

Submit written comments about, or requests for a copy of, this ICR by mail or courier to the U.S. Department of Labor, Office of Workers' Compensation Programs, Room S3323, 200 Constitution Avenue NW, Washington, DC 20210; by email: suggs.anjanette@dol.gov.

FOR FURTHER INFORMATION: Contact Anjanette Suggs by telephone at 202-354-9660 or by email at suggs.anjanette@dol.gov.

SUPPLEMENTARY INFORMATION: The DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The Department of Labor (DOL) is requesting an approval of an information collection as a result of the Sam Farr and Nick Castle Peace Corps Reform Act of 2018 (Farr-Castle), which modified various aspects of the Peace Corps, including changes to the provision of health care to volunteers.

Peace Corps Volunteers are in the performance of duty while abroad during the period of Peace Corps service for purposes of FECA coverage. An injury sustained outside the United States during service is deemed proximately caused by such service, unless the injury or illness was proximately caused by willful misconduct, intention to bring about injury or death, or intoxication.

Under the provisions of the FECA, 5 U.S.C. 8142 of the FECA provides that,

(a) For the purpose of this section, “volunteer” means—

(1) a volunteer enrolled in the Peace Corps under section 2504 of title 22;

(2) a volunteer leader enrolled in the Peace Corps under section 2505 of title 22; and

(3) an applicant for enrollment as a volunteer or volunteer leader during a period of training under section 2507(a) of title 22 before enrollment.

Entitlement to disability compensation payments does not commence until the day after the date of termination of service as a volunteer. 5 U.S.C. 8142(b).

Farr-Castle—directs the Secretary of the Department of Labor to authorize the Director of the Peace Corps to furnish medical benefits to a volunteer, who is injured during the volunteer's period of service, for a period of 120 days following the termination of such service if the Director certifies that the volunteer's injury probably meets the requirements set forth in 5 U.S.C. 8142(c)(3).

To this end, the Office of Workers' Compensation Programs (OWCP) and the Peace Corps collaborated on this form which authorizes medical treatment for recently terminated Peace Corps volunteers who require medical treatment for injuries/exposure sustained in the performance of their volunteer service. Issuance of this form is solely at the discretion of the Peace Corps and bridges the gap between the occurrence of an initial injury and/or disease exposure and the actual adjudication of a claim by OWCP. This form helps to ensure that recently terminated volunteers receive prompt medical care, without delay, for a period of 120 days following separation from service. The collection of this information is authorized under 5 CFR 1320.3(c)(3), and subject to the PRA. A Federal agency generally cannot conduct or sponsor a collection of information, and the public is generally not required to respond to an information collection, unless the OMB under the PRA approves it and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Written comments will receive consideration and be summarized and included in the request for OMB approval of the final ICR. In order to help ensure appropriate consideration, comments should mention OMB-1240-0059.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-Office of Workers' Compensation Programs.

Type of Review: Extension without changes.

Title of Collection: Peace Corps Volunteer Authorization for Examination and/or Treatment].

Form: CA-15.

OMB Control Number: 1240-0059.

Affected Public: Individuals or households or physician/physician staff.

Estimated Number of Respondents: 252.

Frequency: On Occasion.

Total Estimated Annual Responses: 252.

Estimated Average Time per Response: 0.25 hours.

Estimated Total Annual Burden Hours: 63 hours.

Total Estimated Annual Other Cost Burden: $159.00.

Authority: 44 U.S.C. 3506(c)(2)(A).

Anjanette Suggs,
Agency Clearance Officer.

[FR Doc. 2022-24014 Filed 11-3-22; 8:45 am]

BILLING CODE P